DEPARTMENT OF COMMERCE

International Trade Administration

[C-533-878]

Stainless Steel Flanges From India: Final Results of Countervailing Duty Administrative Review; 2018

AGENCY: Enforcement and Compliance, International Trade Administration, U.S. Department of Commerce.

SUMMARY: The Department of Commerce (Commerce) determines that countervailable subsidies are being provided to producers and exporters of stainless steel flanges (steel flanges) from India during the period of review, January 23, 2018, through December 31, 2018.

DATES: Applicable August 26, 2021.

FOR FURTHER INFORMATION CONTACT: Eliza Siordia, AD/CVD Operations, Office V, Enforcement and Compliance, International Trade Administration, U.S. Department of Commerce, 1401 Constitution Avenue NW, Washington, DC 20230; telephone: (202) 482-3878.

SUPPLEMENTARY INFORMATION:

Background

Commerce published the Preliminary Results of this review on February 24, 2021.¹ On June 2, 2021, Commerce extended the deadline for the final results by 177 days. The deadline for the final results of this review is now August 20, 2021. For a complete description of the events that occurred since the Preliminary Results, see the Issues and Decision Memorandum.²

¹ See Stainless Steel Flanges from India: Preliminary Results of Countervailing Duty Administrative Review; 2018, 86 FR 11231 (February 24, 2021) (Preliminary Results), and accompanying Preliminary Decision Memorandum.

² See Memorandum, “Issues and Decision Memorandum for the Final Results of the 2018 Administrative Review of the Countervailing Duty Order on Stainless Steel Flanges from India,” dated concurrently with, and hereby adopted by, this notice (Issues and Decision Memorandum).

Scope of the Order

The products covered by this order are stainless steel flanges from India. For a complete description of the scope of the order, see the Issues and Decision Memorandum.

Analysis of Comments Received

All issues raised in interested parties' briefs are addressed in the Issues and Decision Memorandum. A list of the issues raised by interested parties and to which we responded in the Issues and Decision Memorandum is provided in Appendix I to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/index.html.

Changes Since the Preliminary Results

After evaluating the comments received from interested parties and record information, we have made no changes to the net subsidy rate calculated for Chandan Steel Limited (Chandan) or Kisaan Die Tech Pvt Ltd. (Kisaan). For a discussion of these comments, see the Issues and Decision Memorandum.

Methodology

Commerce is conducting this review in accordance with section 751(a)(l)(A) of the Tariff Act of 1930, as amended (the Act). For each of the subsidy programs found countervailable, we find that there is a subsidy, i.e., a financial contribution from a government or public entity that gives rise to a benefit to the recipient, and the subsidy is specific.³ For a full description of the methodology underlying our conclusions, see the Issues and Decision Memorandum.

³ See sections 771(5)(B) and (D) of the Act regarding financial contribution; section 771(5)(E) of the Act regarding benefit; and section 771(5A) of the Act regarding specificity.

Companies Not Selected for Individual Review

For the companies not selected for individual review, because the rates calculated for Chandan and Kisaan are above de minimis and not based entirely on facts available, we applied a subsidy rate based on the weighted-average of the subsidy rates calculated for Chandan and Kisaan using publicly ranged sales data submitted by the respondents.⁴ We have made no changes to the subsidy rate calculated for companies not selected for individual review.

⁴ See Memorandum, “Calculation of Subsidy Rate for Non-Selected Companies Under Review,” dated February 17, 2021.

Final Results of Administrative Review

In accordance with section 751(a)(1)(A) of the Act and 19 CFR 351.221(b)(5), we determine the total estimated net countervailable subsidy rates for the period January 23, 2018, through December 31, 2018 to be as follows:

Company | Subsidy rate (percent ad valorem)
Chandan Steel Limited | 4.15
Kisaan Die Tech Pvt Ltd | 4.51
Non-Selected Companies Under Review ⁵ | 4.22

Disclosure

⁵ See Appendix II for a list of the companies not selected for individual examination.

Normally, Commerce discloses to interested parties the calculations performed in connection with a final results within five days of any public announcement or, if there is no public announcement, within five days of the date of publication of the notice of final determination in the Federal Register, in accordance with 19 CFR 351.224(b). However, because there are no changes from the Preliminary Results, there are no new calculations to disclose.

Assessment Rate

Consistent with section 751(a)(2)(C) of the Act, upon issuance of the final results, Commerce shall determine, and U.S. Customs and Border Protection (CBP) shall assess, countervailing duties on all appropriate entries covered by this review. Commerce intends to issue appropriate assessment instructions to CBP no earlier than 35 days after publication of these final results. If a timely summons is filed at the U.S. Court of International Trade, the assessment instructions will direct CBP not to liquidate relevant entries until the time for parties to file a request for a statutory injunction has expired (i.e., within 90 days of publication).

Cash Deposit Requirements

Pursuant to section 751(a)(1) of the Act, Commerce intends to instruct CBP to collect cash deposits of estimated countervailing duties in the amounts indicated above with regard to shipments of subject merchandise entered, or withdrawn from warehouse, for consumption on or after the date of publication of the final results of this review. For all non-reviewed firms, we will instruct CBP to continue to collect cash deposits of estimated countervailing duties at the most recent company-specific or all-others rate applicable to the company, as appropriate. These cash deposit instructions, when imposed, shall remain in effect until further notice.

Administrative Protective Order

This notice also serves as a final reminder to parties subject to an administrative protective order (APO) of their responsibility concerning the return or destruction of proprietary information disclosed under APO in accordance with 19 CFR 351.305(a)(3), which continues to govern business proprietary information in this segment of proceeding. Timely written notification of the return/destruction of APO materials or conversion to judicial protective order is hereby requested. Failure to comply with the regulations and terms of an APO is a violation which is subject to sanction.

Notification to Interested Parties

These final results are issued and published in accordance with sections 751(a)(1) and 777(i)(1) of the Act and 19 CFR 351.221(b)(5).

Dated: August 20, 2021.
Ryan Majerus,
Deputy Assistant Secretary for Policy and Negotiations.

Appendix I

List of Topics Discussed in the Issues and Decision Memorandum

I. Summary

II. Background

III. Scope of the Order

IV. Changes Since the Preliminary Results

V. Subsidies Valuation Information

VI. Use of Facts Otherwise Available and Application of Adverse Inferences

VII. Analysis of Programs

VIII. Discussion of the Issues

Comment 1: Whether Commerce Should Apply Total Adverse Facts Available (AFA) to Kisaan

Comment 2: Whether Commerce Should Countervail the Provision of Stainless Steel, Billet, and Bar by Steel Authority of India Ltd. (SAIL) for Less Than Adequate Renumeration (LTAR) Program for Kisaan

Comment 3: Whether Commerce Should Countervail the Advance Authorization Program (AAP)/Advance License Program (ALP) Scheme for Chandan

IX. Recommendation

Appendix II

List of Non-Selected Companies

Arien Global

Armstrong International Pvt. Ltd.

Avinimetal

Balkrishna Steel Forge Pvt. Ltd.

Bebitz Flanges Works Private Limited also known as Bebitz Flanges Works

Bee Gee Enterprises

Bsl Freight Solutions Pvt., Ltd.

CD Industries (Prop. Kisaan Engineering Works Pvt. Ltd).

Cipriani Harrison Valves Pvt. Ltd.

CTL Logistics (India) Pvt. Ltd.

Echjay Forgings Private Limited

Fivebros Forgings Pvt. Ltd.

Fluid Controls Pvt. Ltd.

Geodis Oversea Pvt., Ltd.

Globelink WW India Pvt., Ltd.

Goodluck India Ltd.

Hilton Metal Forging Limited

Jai Auto Pvt. Ltd.

JAY JAGDAMBA FORGINGS PRIVATE LIMITED

Jay Jagdamba Ltd.

JAY JAGDAMBA LIMITED

JAY JAGDAMBA PROFILE PRIVATE LIMITED

Kunj Forgings Pvt. Ltd.

Montane Shipping Pvt., Ltd.

Noble Shipping Pvt. Ltd.

Paramount Forge

Pashupati Tradex Pvt., Ltd.

Peekay Steel Castings Pvt. Ltd.

Pradeep Metals Limited

Pradeep Metals Ltd.

R D Forge Pvt., Ltd.

Rolex Fittings India Pvt. Ltd.

Rollwell Forge Pvt. Ltd.

Safewater Lines (I) Pvt. Ltd.

Saini Flange Pvt. Ltd.

SAR Transport Systems

Shilpan Steelcast Pvt. Ltd.

SHREE JAY JAGDAMBA FLANGES PRIVATE LIMITED

Shree Jay Jagdamba Flanges Pvt. Ltd.

Teamglobal Logistics Pvt. Ltd.

Technical Products Corporation

Technocraft Industries India Ltd.

Transworld Global

VEEYES Engineering Pvt. Ltd.

Vishal Shipping Agencies Pvt. Ltd.

Yusen Logistics (India) Pvt. Ltd.

[FR Doc. 2021-18413 Filed 8-25-21; 8:45 am]

BILLING CODE 3510-DS-P